DEPARTMENT OF HOUSING AND URBAN DEVELOPMENT

[Docket No. FR-4579-FA-15]

Announcement of Funding Award—FY 2001; Lead-Based Paint Hazard Control; Alliances To End Childhood Lead Poisoning

AGENCY: Office of the Secretary—Office of Healthy Homes and Lead Hazard Control, HUD.

ACTION: Announcement of funding award.

SUMMARY: In accordance with section 102(a)(4)(C) of the Department of Housing and Urban Development Reform Act of 1989, this announcement notifies the public of a funding decision made by the Department to the Alliance To End Childhood Lead Poisoning. This announcement contains the name and address of the awardee and the amount of the award.

FOR FURTHER INFORMATION CONTACT: Staci Gilliam, Department of Housing and Urban Development, 451 Seventh Street, SW., Washington, DC 20410, telephone (202) 755-1785, ext. 110. Hearing- or speech-impaired individuals may access this number by calling the Federal Information Relay Service TTY at 1-800-877-8339.

SUPPLEMENTARY INFORMATION: The Lead-Based Paint Hazard Control grant for the Alliance To End Childhood Lead Poisoning was issued pursuant to Public Law 102-550, Title X, Residential Lead-Based Paint Hazard Reduction Act of 1992.

This notice announces the award of $2,300,000 to the Alliance To End Childhood Lead Poisoning, which will be used to help community- and faith-based organizations ensure that families have access to housing that is decent, safe, affordable, and free from recognized health hazards that can harm young children.

The Catalog of Federal Domestic Assistance number for this program is 14.900.

In accordance with section 102(a)(4)(C) of the Department of Housing and Urban Development Reform Act of 1989 (103 Stat. 1987, 42 U.S.C. 3545), the Department is publishing the name, address, and amount of the award as follows:

Alliance To End Childhood Lead Poisoning, P.O. Box 29907, San Francisco, CA 94129-0907.

Total Amount of Grant: $2,300,000.

Dated: September 16, 2002.
David E. Jacobs,
Director, Office of Healthy Homes & Lead Hazard Control.

[FR Doc. 02-26766 Filed 10-21-02; 8:45 am]

BILLING CODE 4210-70-M